DEPARTMENT OF AGRICULTURE

Food and Nutrition Service

Agency Information Collection Activities: Special Supplemental Nutrition Program for Women, Infants, and Children (WIC) Program Regulations—Reporting and Recordkeeping Burden

AGENCY: Food and Nutrition Service (FNS), USDA.

ACTION: Notice.

SUMMARY: In accordance with the Paperwork Reduction Act of 1995, this notice invites the general public and other public agencies to comment on a proposed information collection. This collection is a revision of the currently approved information collection for the Special Supplemental Nutrition Program for Women, Infants, and Children (WIC), which contains the reporting and recordkeeping burdens associated with the WIC Program regulations. These revisions include existing requirements that have been in use without Office of Management and Budget (OMB) approval, identified during the drafting of proposed information collection requests associated with two rulemakings: the Revisions in the WIC Food Packages proposed rule and the WIC Online Ordering and Transactions proposed rule.

DATES: Written comments must be received on or before November 29, 2022.

ADDRESSES: Comments may be sent to: Allison Post, Chief, WIC Administration, Benefits, and Certification Branch, Policy Division, Food and Nutrition Service, U.S. Department of Agriculture, 1320 Braddock Place, Alexandria, VA 22314. Comments may also be submitted via email to Allison.Post@usda.gov. Comments will also be accepted through the Federal eRulemaking Portal. Go to http://www.regulations.gov, and follow the online instructions for submitting comments electronically. All responses to this notice will be summarized and included in the request for Office of Management and Budget approval. All comments will be a matter of public record.

FOR FURTHER INFORMATION CONTACT: Requests for additional information or copies of this information collection should be directed to Allison Post at (703) 457-7708 or Allison.Post@usda.gov.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Special Supplemental Nutrition Program for Women, Infants, and Children (WIC) Program Regulations—Reporting and Recordkeeping Burden.

Form Number: N/A.

OMB Number: 0584-0043.

Expiration Date: 12/31/2023.

Type of Request: Revision of a currently approved collection.

Abstract: FNS is currently drafting two proposed rules that would change Federal regulations governing the WIC Program at 7 CFR part 246. FNS will seek comment on the proposed information collections associated with those two rules separately. In the development of those two rules, FNS identified several existing requirements that are currently in use without OMB approval. This revision of OMB Control Number 0584-0043 adds those requirements and their associated burdens into this collection to correct this oversight. These requirements will be included in future revisions to the WIC burden.

During development of the Revisions in the WIC Food Packages proposed rule, FNS identified the State agency reporting burden associated with 7 CFR 246.12(h)(1)(i) as in use without OMB approval. This provision requires the State agency to enter into a written agreement with retail vendors. State agencies must review completed applications and sign a vendor agreement where the agreement period must not exceed three years. The revision increases the approved annual reporting burden by 13,584.12 responses across all 89 State agencies, totaling 10,188.09 hours.

During the development of the WIC Online Ordering and Transactions proposed rule, FNS identified six additional existing regulatory requirements as in use without OMB approval that affect the reporting burdens for WIC State agencies, households, and WIC-authorized retail vendors. The State agency reporting burden associated with vendor applications and agreements, discussed above, was identified during the development of both WIC proposed rules.

WIC State Agency Reporting Burden: WIC regulations at § 246.12(g)(5), § 246.12(j)(2), and § 246.12(j)(4) require State agencies to visit vendors on site to conduct preauthorization visits of new vendor applicants, routine monitoring visits of five percent of vendors, and compliance investigations of five percent of vendors, respectively.¹ These requirements involve both the necessary time to conduct the visit and the round-trip travel time. In addition to the 13,584.12 responses and 10,188.09 hours associated with reviewing vendor applications and agreements discussed above, these revisions would add 3,571.20 responses and 4,943.33 hours to the approved WIC State agency reporting burden, for a total of 17,155.32 additional responses and 15,131.42 additional burden hours across all 89 State agencies.

¹ The burden associated with conducting compliance investigations is already included in the approved burden for this collection, but the travel time has been previously omitted. Including the travel time affects the number of burden hours (686.07 hours added) but not the number of responses associated with compliance investigations.

Household Reporting Burden: Section 246.12(r) requires WIC participants to pick up food instruments and cash-value vouchers (CVVs) in person when scheduled for a nutrition or recertification appointment. Outside of these scheduled appointments, State agencies may issue benefits through alternative means including electronic benefits transfer (EBT) or mailing, but many participants must still visit the clinic to pick up their benefits. Households with multiple WIC participants would only need to travel to the clinic once to pick up all members' benefits, and State agencies may issue up to three months of food instruments and CVVs at a time.

If a State agency operates an offline EBT system or has not completed their transition to EBT, participants are generally required to reload their offline EBT card or pick up paper food instruments and CVVs in person. FNS estimates that in these State agencies, 656,135.82 households visit the clinic three times per year outside of other scheduled appointments to pick up benefits in person, requiring 1,968,407.46 visits and 984,203.73 hours. If a State agency operates an online EBT system, new participants generally pick up new EBT cards in person and all other participants receive benefits electronically. FNS estimates that in these State agencies, 1,042,098.07 households spend 521,049.03 hours picking up EBT cards in person once per year outside of other scheduled appointments. These revisions would add 3,010,505.53 responses and 1,505,252.76 total hours to the approved reporting burden for 1,698,234 households.

WIC-Authorized Vendor Reporting Burden: In addition to the State agency reporting burden associated with preauthorization visits required by § 246.12(g)(5), vendors' reporting burden must account for such visits. Approximately 1,513 vendors are newly authorized for the WIC Program each year and undergo preauthorization visits. Once authorized for the WIC Program, all 41,164 WIC-authorized vendors are required to attend annual training, per § 246.12(j)(1). FNS estimates that including the burden associated with these two existing provisions adds 42,677 responses and 83,336.72 hours to the approved vendor reporting burden for this collection.

Affected Public: Individual/Households; Business or Other for Profit; and State and Tribal Government. Respondent groups include WIC participants/households, WIC-authorized retail vendors, and WIC State agencies (including Indian Tribal Organizations and U.S. Territories).

Estimated Number of Respondents: The total estimated number of respondents is 1,739,487 for the proposed revisions to the information collection request associated with OMB Number 0584-0043. This includes: 89 State agencies; 1,698,234 WIC households, and 41,164 WIC-authorized retail vendors.

Estimated Number of Responses per Respondent: 1.77 responses.

Estimated Total Annual Responses: The total estimated number of responses is 3,072,396 for the proposed revisions to the information collection request associated with OMB Number 0584-0043.

Estimated Time per Response: 0.52 hours.

Estimated Total Annual Burden on Respondents: 1,607,837 hours.

Current OMB Inventory: 4,547,099 hours and 48,798,800 responses.

Difference (Burden Revisions Requested): +1,603,721 hours and +3,070,338 responses.²

² The burden revisions requested do not exactly match the number of hours and responses for the proposed revisions to the information collection listed above because the burden associated with conducting compliance investigations is already included in the approved burden for this collection; the revision only adds the estimated travel time that is required to conduct compliance investigations.

Estimated Grand Total for Reporting and Recordkeeping Burden: 6,150,819 hours and 51,869,137 responses (numbers may not sum due to rounding).

Tameka Owens,
Assistant Administrator, Food and Nutrition Service.

[FR Doc. 2022-21202 Filed 9-29-22; 8:45 am]

BILLING CODE 3410-30-P